DEPARTMENT OF AGRICULTURE

Natural Resources Conservation Service

7 CFR Part 1469

Conservation Security Program

AGENCY: Natural Resources Conservation Service, USDA.

ACTION: Proposed rule; notice of meetings.

SUMMARY: The Natural Resources Conservation Service (NRCS) hereby gives notice that it will conduct 10 public forums whereby interested individuals can provide comments and ideas regarding the proposed rule for the Conservation Security Program (CSP). NRCS published a proposed rule for the implementation of CSP on January 2, 2004.

The public is invited to attend. There will be a CSP introductory workshop proceeding each listening session. Those who wish to speak at a forum may make arrangements in advance by calling the State contact listed or may sign up at the forum. Speakers will be limited to five minutes.

NRCS will accept written comments at each of the fora. NRCS will also accept written comments by mail, facsimile, or e-mail. Written comments must be postmarked or faxed by March 1, 2004, and addressed to: Thomas Christensen, Acting Director, Conservation Operations Division, Natural Resources Conservation Service, USDA, P.O. Box 2890, Washington, DC; fax: (202) 720-4265; or e-mail to david.mckay@usda.gov; Attn: Conservation Security Program. You may access the proposed rule via the Internet through the NRCS home page at http://www.nrcs.usda.gov. Select “Farm Bill.”

USDA Natural Resources and Environment and NRCS leadership will participate in each meeting.

Date (2004) | State | City | Venue | Contact | Time
Jan. 13 | Arizona | Tempe | Sheraton Airport Hotel, 1600 South 52nd Street, (480) 967-6600 | Jon Hall, (602) 280-8781 | 1-5 p.m.
Feb. 11 | Florida | Ft. Pierce | U.S. Horticultural Laboratory, 2001 South Rock Road | Bob Stobaugh, (352) 338-9565 | 10 a.m.-1 p.m.
Feb. 11 | Iowa | Des Moines | Four Points Sheraton, 4800 Merle Hay Road, (515) 278-4755 | Dennis Pate, (515) 284-4769 | 1-4 p.m.
Feb. 11 | Maine | Augusta | Civic Center, 76 Community Center Dr | Colleen Churchill, (207) 990-9551 | 10 a.m.-1 p.m.
Feb. 10 | Michigan | Lansing | Clarion Hotel and Conference Center, 3600 Dunckel Rd., (517) 351-7600 | Alan G. Herceg, (517) 324-5282 | 1-3 p.m.
Feb. 11 | Mississippi | Greenwood | Greenwood Civic Center, Highway 7 North | James Johnson, (662) 453-2762, ext. 29 | 1:30-3:30 p.m.
Jan. 21 | Texas | Kerrville | Inn of the Hills Conference Center, 1001 Junction Highway | Marsha Redwine, (254) 742-9800 | 10 a.m.-1 p.m.
Jan. 13 | Virginia | Roanoke | The Hotel Roanoke & Conference Center, 110 Shenandoah Ave | Carol Lipinski, (804) 287-1691 | 1-4 p.m.
Jan. 27 | Washington | Spokane | Spokane Convention Center, 334 Spokane Falls Boulevard | Raymond “Gus” Hughbanks, (509) 323-2900 | Noon-4 p.m.
Feb. 26 | Wisconsin | Madison | Sheraton Hotel, 706 John Nolen Dr | Renae Anderson, (608) 662-4422, ext. 227 | 1-4 p.m.

Please call the contact person of the meeting that you wish to attend to obtain further meeting details.

FOR FURTHER INFORMATION CONTACT: Diane Heard, Office of the Deputy Chief for Programs, telephone: (202) 720-3587; fax: (202) 720-6559; email: diane.heard@usda.gov.

Signed in Washington, DC, on January 6, 2004.
Bruce I. Knight,
Chief, Natural Resources Conservation Service.

[FR Doc. 04-728 Filed 1-13-04; 8:45 am]

BILLING CODE 3410-16-P